DEPARTMENT OF HEALTH AND HUMAN SERVICES

Food and Drug Administration

21 CFR Part 530

[Docket No. 03N-0024]

New Animal Drugs; Phenylbutazone; Extralabel Animal Drug Use; Order of Prohibition; Correction

AGENCY: Food and Drug Administration, HHS.

ACTION: Final rule; correction.

SUMMARY: The Food and Drug Administration (FDA) is correcting a final rule that appeared in the Federal Register of February 28, 2003 (68 FR 9528). The document issued an order prohibiting the extralabel use of phenylbutazone animal and human drugs in female dairy cattle 20 months of age or older. FDA is correcting the regulation listing the prohibition by replacing “Phenylbutazone” with “Phenylbutazone in female dairy cattle 20 months of age or older.” This correction is being made so that the phenylbutazone listing accurately reflects the agency's intent, which is reflected in the preamble to the final rule.

DATES: This rule is effective May 29, 2003.

FOR FURTHER INFORMATION CONTACT: Gloria J. Dunnavan, Center for Veterinary Medicine (HFV-230), Food and Drug Administration, 7500 Standish Pl., Rockville, MD 20855, 301-827-1168, e-mail: gdunnava@cvm.fda.gov.

SUPPLEMENTARY INFORMATION: In FR Doc. 03-4741, appearing on page 9528 in the Federal Register of Friday, February 28, 2003, the following correction is made:

§ 530.41 [Corrected]

On page 9530, in the first column, in § 530.41 Drugs prohibited for extralabel use in animals, in paragraph (a)(12), “Phenylbutazone.” is corrected to read “Phenylbutazone in female dairy cattle 20 months of age or older.”

Dated: March 13, 2003.
Stephen F. Sundlof,
Director, Center for Veterinary Medicine.

[FR Doc. 03-6891 Filed 3-21-03; 8:45 am]

BILLING CODE 4160-01-S